DEPARTMENT OF COMMERCE

National Oceanic and Atmospheric Administration

RIN 0648-XV38

Endangered and Threatened Species; Take of Anadromous Fish

AGENCY: National Marine Fisheries Service (NMFS), National Oceanic and Atmospheric Administration (NOAA), Commerce.

ACTION: Notice of receipt and request for comment.

SUMMARY: Notice is hereby given that NMFS has received application from the Idaho Department of Fish and Game (IDFG) for a modification to an existing incidental take permit pursuant to the Endangered Species Act of 1973, as amended (ESA). The proposed modification is to extend the existing permit for one year. This document serves to notify the public of the availability for comment of the permit application. All comments received will become part of the public record and will be available for review pursuant to the ESA.

DATES: Comments must be received at the appropriate address or fax number (see ADDRESSES) no later than 5 p.m. Pacific time on April 23, 2010.

ADDRESSES: Written comments on the application should be sent to Brett Farman, National Marine Fisheries Services, Salmon Recovery Division, 1201 N.E. Lloyd Boulevard, Suite 1100, Portland, OR 97232. Comments may also be submitted by e-mail to: IdahoFisheries.nwr@noaa.gov. Include in the subject line of the e-mail comment the following identifier: Comments on IDFG's fishery modification. Comments may also be sent via facsimile (fax) to (503) 872-2737. Requests for copies of the permit applications should be directed to the National Marine Fisheries Services, Salmon Recovery Division, 1201 NE Lloyd Boulevard, Suite 1100, Portland, OR 97232. The documents are also available on the Internet at www.nwr.noaa.gov. Comments received will also be available for public inspection, by appointment, during normal business hours by calling (503) 230-5409.

FOR FURTHER INFORMATION CONTACT: Brett Farman at (503) 231-6222 or e-mail: brett.farman@noaa.gov.

SUPPLEMENTARY INFORMATION: This notice is relevant to the following species and evolutionarily significant units (ESUs) or distinct population segments (DPSs):

Chinook salmon (Oncorhynchus tshawytscha): threatened, Snake River spring/summer-run, and threatened, Snake River fall-run.

Sockeye salmon (O. nerka): endangered, Snake River.

Steelhead (O. mykiss): threatened, Snake River Basin.

Background

Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species if such taking is incidental to, and not the purpose of, the carrying out of an otherwise lawful activity, under section 10(a)(1)(B) of the ESA. NMFS regulations governing permits for threatened and endangered species are promulgated at 50 CFR 222.307.

In an application package received on December 31, 2009, the IDFG submitted an application to NMFS for a modification to existing ESA section 10(a)(1)(B) permit 1481. The modification would extend the duration of permit 1481 by one year, until May 31, 2011. The purpose of the extension is to provide authorization for recreational fisheries in Idaho affecting ESA-listed anadromous salmon and steelhead, while a coordinated harvest management framework process is developed by co-managers in the basin. Other than the extended duration, fisheries would be implemented under the proposed extension consistent with the current permit.

This notice is provided pursuant to section 10(c) of the ESA. NMFS will evaluate each application package, associated documents, and comments submitted thereon to determine whether the applications meets the requirements of section 10(a)(1)(B) of the ESA. If it is determined that the requirements are met, permit 1481 will be extended for one year, and the modified permit will be issued to the IDFG. NMFS will publish a record of its final action in the Federal Register.

Dated: March 18, 2010.
Angela Somma,
Chief, Endangered Species Division, Office of Protected Resources, National Marine Fisheries Service.

[FR Doc. 2010-6543 Filed 3-23-10; 8:45 am]

BILLING CODE 3510-22-S